DEPARTMENT OF TRANSPORTATION

Federal Aviation Administration

14 CFR Part 39

[Docket No. FAA-2008-0681; Directorate Identifier 2008-NE-13-AD]

RIN 2120-AA64

Airworthiness Directives; Turbomeca S.A. Models Arriel 1E2, 1S, and 1S1 Turboshaft Engines

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

Turbomeca S.A. has informed EASA of a case of a “red disk” plug that has been actually installed on an engine which has been subsequently released for service operation. This engine experienced an in-service high pressure leak event (at the fuel pump outlet) due to cracking of this “red disk” plug. This leak could lead to in-flight flame-out and/or possibly a fire.

We are proposing this AD to prevent fuel leaks, which could result in a fire and possible damage to the helicopter.

DATES: We must receive comments on this proposed AD by July 25, 2008.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

FOR FURTHER INFORMATION CONTACT: James Lawrence, Aerospace Engineer, Engine Certification Office, FAA, Engine and Propeller Directorate, 12 New England Executive Park, Burlington, MA 01803; e-mail: james.lawrence@faa.gov; telephone (781) 238-7176; fax (781) 238-7199.

SUPPLEMENTARY INFORMATION:

Comments Invited

We invite you to send any written relevant data, views, or arguments about this proposed AD. Send your comments to an address listed under the ADDRESSES section. Include “Docket No. FAA-2008-0681; Directorate Identifier 2008-NE-13-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2008-0014, dated January 17, 2008 (referred to after this as “the MCAI”), to correct an unsafe condition for the specified products. The MCAI states:

A plug adapted for engine bench testing (called “red disk” plug) and not approved for service operation, could inadvertently be installed on the engine Fuel Control Unit 3-way union, instead of the sealed plug approved for service operation.

Turbomeca S.A. has informed EASA of a case of a “red disk” plug that has been actually installed on an engine which has been subsequently released for service operation. This engine experienced an in-service high pressure leak event (at the fuel pump outlet) due to cracking of this “red disk” plug. This leak could lead to in-flight flame-out and/or possibly a fire.

You may obtain further information by examining the MCAI in the AD docket.

Relevant Service Information

Turbomeca has issued Service Bulletin No. 292 73 0817, dated March 13, 2008. The actions described in this service information are intended to correct the unsafe condition identified in the MCAI.

FAA's Determination and Requirements of This Proposed AD

This product has been approved by the aviation authority of France, and is approved for operation in the United States. Pursuant to our bilateral agreement with France, they have notified us of the unsafe condition described in the EASA AD and service information referenced above. We are proposing this AD because we evaluated all information provided by EASA and determined the unsafe condition exists and is likely to exist or develop on other products of the same type design. This proposed AD would require performing a onetime inspection of the correct reference of the plug installed on the FCU 3-way union (P/N 9 932 30 706 0) and verifying its torque.

Costs of Compliance

Based on the service information, we estimate that this proposed AD would affect about 179 products installed on helicopters of U.S. registry. We also estimate that it would take about 0.5 work-hour per product to comply with this proposed AD. The average labor rate is $80 per work-hour. Required parts would cost about $14 per product. Based on these figures, we estimate the cost of the proposed AD on U.S. operators to be $9,666. Our cost estimate is exclusive of possible warranty coverage.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Turbomeca S.A. Docket No. FAA-2008-0681; Directorate Identifier 2008-NE-13-AD.

Comments Due Date

(a) We must receive comments by July 25, 2008.

Affected Airworthiness Directives (ADs)

(b) None.

Applicability

(c) This AD applies to Turbomeca S.A. Models Arriel 1E2, 1S, and 1S1 turboshaft engines. These engines are installed on, but not limited to, Eurocopter Deutschland MBB-BK 117 series and Sikorsky S-76A series helicopters.

Reason

(d) Turbomeca S.A. has informed EASA of a case of a “red disk” plug that has been actually installed on an engine which has been subsequently released for service operation. This engine experienced an in-service high pressure leak event (at the fuel pump outlet) due to cracking of this “red disk” plug. This leak could lead to in-flight flame-out and/or possibly a fire.

We are issuing this AD to prevent fuel leaks, which could result in a fire and possible damage to the helicopter.

Actions and Compliance

(e) Unless already done, do the following actions.

(1) Within 100 operating hours from effective date of this AD, perform a one-time inspection of the correct reference of the plug installed on the FCU 3-way union (9 932 30 706 0) and verify its torque to be set between 1.3 and 1.5 daN.m in accordance with Turbomeca Mandatory Service Bulletin 292 73 0817.

Other FAA AD Provisions

(f) Alternative Methods of Compliance (AMOCs): The Manager, Engine Certification Office, FAA, has the authority to approve AMOCs for this AD, if requested using the procedures found in 14 CFR 39.19.

Related Information

(g) Refer to MCAI EASA Airworthiness Directive 2008-0014, dated January 17, 2008, and Turbomeca Mandatory Service Bulletin No. 292 73 0817, Version C, dated March 13, 2008, for related information.

(h) Contact James Lawrence, Aerospace Engineer, Engine Certification Office, FAA, Engine and Propeller Directorate, 12 New England Executive Park, Burlington, MA 01803; e-mail: james.lawrence@faa.gov; telephone (781) 238-7176; fax (781) 238-7199, for more information about this AD.

Issued in Burlington, Massachusetts, on June 19, 2008.
Diane Cook,
Acting Manager, Engine and Propeller Directorate, Aircraft Certification Service.

[FR Doc. E8-14321 Filed 6-24-08; 8:45 am]

BILLING CODE 4910-13-P